DEPARTMENT OF LABOR

Employment and Training Administration

[TA-W-38,248]

Facemate Corporation, Somersworth, New Hampshire; Notice of Termination of Investigation

Pursuant to Section 221 of the Trade Act of 1974, an investigation was initiated on October 30, 2000, in response to a petition which was filed by the company on behalf of workers at Facemate Corporation, Somersworth, New Hampshire.

The petitioner has requested that the petition be withdrawn. Consequently, further investigation in this case would serve no purpose, and the investigation has been terminated.

Signed at Washington, DC, this 27th day of December, 2000.
Linda G. Poole,
Certifying Officer, Division of Trade Adjustment Assistance.

[FR Doc. 01-1897 Filed 1-22-01; 8:45 am]

BILLING CODE 4510-30-M